DEPARTMENT OF THE INTERIOR

National Park Service

[NPS-WASO-NAGPRA-NPS0031763; PPWOCRADN0-PCU00RP14.R50000]

Notice of Intent To Repatriate Cultural Items: Hartwick College, Yager Museum of Art & Culture, Oneonta, NY

AGENCY: National Park Service, Interior.

ACTION: Notice.

SUMMARY: The Hartwick College, Yager Museum of Art & Culture (hereafter Yager Museum), in consultation with the appropriate Indian Tribes or Native Hawaiian organizations, has determined that the cultural item listed in this notice meets the definition of an object of cultural patrimony. Lineal descendants or representatives of any Indian Tribe or Native Hawaiian organization not identified in this notice that wish to claim this cultural item should submit a written request to the Yager Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Yager Museum at the address in this notice by May 24, 2021.

ADDRESSES: Dr. Quentin Lewis, Yager Museum of Art & Culture, Hartwick College, 1 Hartwick Drive, Oneonta, NY 13820, telephone (607) 431-4481, email lewisq@hartwick.edu.

SUPPLEMENTARY INFORMATION: Notice is here given in accordance with the Native American Graves Protection and Repatriation Act (NAGPRA), 25 U.S.C. 3005, of the intent to repatriate a cultural item under the control of Hartwick College, Yager Museum of Art & Culture, Oneonta, NY, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1994, Frederick W. Dockstader, former Director of the Museum of the American Indian of the Heye Foundation, New York City, gave the Yager Museum of Art & Culture at Hartwick College one cultural item that he described as a family heirloom of the Quinney Family that had been among the belongings of John Wannuaucon Quinney (1797-1855), Sachem of the Stockbridge Tribe of Indians (later the Stockbridge Munsee Community, Wisconsin). It is unclear how Dockstader acquired the object, and it is also unclear how and when the object left the possession of the Quinney Family. The object of cultural patrimony is one set of three silver ring brooches.

Research by the Yager Museum staff, as well as information provided by the Stockbridge-Munsee Community, Wisconsin in consultation with the Museum, has demonstrated that this object meets the definition of object of cultural patrimony. The brooches were likely badges of office, utilized by Quinney in his role as intercultural broker and diplomat, acting on behalf of the Stockbridge-Munsee across lines of political and cultural difference. Quinney's brooches are a material signifier of Stockbridge-Munsee sovereignty and their struggle to maintain such sovereignty in the face of attempts at dissolution.

Determinations Made by the Hartwick College, Yager Museum of Art & Culture

Officials of the Hartwick College, Yager Museum of Art & Culture have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Stockbridge Munsee Community, Wisconsin.

Additional Requestors and Disposition

Lineal descendants or representatives of any Indian Tribe or Native Hawaiian organization not identified in this notice that wish to claim this cultural item should submit a written request with information in support of the claim to Dr. Quentin Lewis, Yager Museum of Art & Culture, Hartwick College, 1 Hartwick Drive, Oneonta, NY 13820, telephone (607) 431-4481, email lewisq@hartwick.edu, by May 24, 2021. After that date, if no additional claimants have come forward, transfer of control of the object of cultural patrimony to the Stockbridge Munsee Community, Wisconsin may proceed.

Hartwick College, Yager Museum of Art & Culture is responsible for notifying the Stockbridge Munsee Community, Wisconsin that this notice has been published.

Dated: April 8, 2021.
Melanie O'Brien,
Manager, National NAGPRA Program.

[FR Doc. 2021-08402 Filed 4-21-21; 8:45 am]

BILLING CODE 4312-52-P